DEPARTMENT OF DEFENSE

Department of the Army, Corps of Engineers

Intent To Prepare a Draft Environmental Impact Statement for the Biscayne Bay Coastal Wetlands Project

AGENCY: Department of the Army, U.S. Army Corps of Engineers, DoD.

ACTION: Notice of intent.

SUMMARY: The U.S. Army Corps of Engineers (Corps), Jacksonville District intends to prepare an integrated Project Implementation Report/Draft Environmental Impact Statement (PIR/DEIS) for the Biscayne Bay Coastal Wetlands Project. The study is a cooperative effort between the Corps and the South Florida Water Management District (SFWMD), which is also a cooperating agency for this DEIS. One of the recommendations of the final report of the Central & South Florida (C&SF) Comprehensive Review Study (Restudy) was the implementation of the Biscayne Bay Coastal Wetlands Project. The purpose of this project is to rehydrate wetlands and reduce point source discharge to Biscayne Bay. This study is intended to replace lost overland flow and partially compensate for the reduction in groundwater seepage by redistributing, through a spreader system, available surface water entering the area from regional canals. This project is a component of the Comprehensive Everglades Restoration Plan, a multi-year effort to restore the greater Everglades ecosystem while providing water supply and other water-related benefits to South Florida over many decades.

FOR FURTHER INFORMATION CONTACT: Mr. Brad Tarr, U.S. Army Corps of Engineers, Planning Division, Environmental Branch, P.O. Box 4970, Jacksonville, FL, 32232-0019, by email bradley.a.tarr@usace.army.mil, or by telephone at 904-232-3582.

SUPPLEMENTARY INFORMATION: a. Authorization: The authority for this project is contained within the Water Resources Development Act (WRDA) 2000. The “Design Agreement between the Department of the Army and the SFWMD for the Design of Elements of the Comprehensive Plan for the Everglades and South Florida Ecosystem Restoration Project” contains additional guidance.

b. Study Area: The general geographical extent of the project is along the mainland coast of southern Biscayne Bay from the Deering Estate, south to the Florida Power and Light Turkey Point Power Plant, generally along the L-3E canal in Miami-Dade County, Florida. The study area will extend further west and south, as needed, to evaluate project effects.

c. Project Scope: The Biscayne Bay Coastal Wetlands project may include the installation or construction of pump stations, spreader swales, stormwater treatment areas, flowways, levees, culverts, and backfilling canals as part of an effort to rehydrate wetlands and reduce point source discharge to Biscayne Bay.

The purpose of these features is to replace lost overland flow and partially compensate for the reduction in groundwater seepage by redistributing, through a spreader system, available surface water entering the area from regional canals. The proposed redistribution of freshwater flow across a broad front is expected to restore or enhance freshwater wetlands, tidal wetlands, and nearshore bay habitat.

The study will evaluate alternatives based on their ability to improve water deliveries to the natural system, protect and conserve water resources, protect or restore fish and wildlife and their associated habitat, restore and manage wetland and associated upland ecosystems, sustain economic and natural resources, improve water quality, and other performance criteria being developed by the Project Delivery Team.

d. Preliminary Alternatives: Additional alternatives will be drafted which may be revised pending model results and public feedback.

The Environmental Impact Statement (EIS) for the project will include an evaluation of adverse environmental impacts, including but not limited to, water quality, socio-economic, archaeological and biological. In addition to adverse impacts, the evaluation will also focus on how well the plans perform with regard to specific performance measures.

e. Issues: The EIS will address the impacts concerning freshwater overland flow into Biscayne Bay; and water quality, particularly in the estuaries and receiving waters of Biscayne Bay and the reef tract.

The EIS will also address environmental issues, such as: Flood protection; aesthetics and recreation; fish and wildlife resources, including protected species; cultural resources; and other impacts identified through scoping, public involvement, and interagency coordination.

f. Scoping: A scoping letter and public workshops will be used to invite comments on alternatives and issues from Federal, State, and local agencies, affected Indian tribes, and other interested private organizations and individuals.

Public meetings will be held over the course of the study; the exact location, dates, and times will be announced in public notices and local newspapers.

g. DEIS Preparation: The integrated draft PIR, which will include a draft EIS, is currently scheduled for publication in July 2005.

Dated: February 21, 2003.
James C. Duck,
Chief, Planning Division.

[FR Doc. 03-5486 Filed 3-6-03; 8:45 am]

BILLING CODE 3710-AJ-M